DEPARTMENT OF THE INTERIOR

National Park Service

Final Environmental Impact Statement; Wetland and Creek Restoration at Big Lagoon Golden Gate National Recreation Area; Marin County, California; Notice of Approval of Record of Decision

SUMMARY: Pursuant to 102(2)(C) of the National Environmental Policy Act of 1969 (Pub. L. 91-190, as amended) and the regulations promulgated by the Council on Environmental Quality (40 CFR1505.2), the Department of the Interior, National Park Service has prepared and approved a Record of Decision for the Final Environmental Impact Statement (Final EIS) for Wetland and Creek Restoration at Big Lagoon, Golden Gate National Recreation Area. The requisite no-action “wait period” was initiated December 21, 2007, with the Environmental Protection Agency's Federal Register notification of the filing of the Final EIS.

Decision: As soon as practical Golden Gate National Recreation Area, in cooperation with the County of Marin, will begin to implement restoration strategies and park and area improvements identified and analyzed as the Preferred Alternative presented in the Final EIS (with minor modifications from the course of action as presented in the EIS, based upon final consultations with partner agencies). The full range of foreseeable environmental consequences was assessed, and appropriate mitigation measures identified. Both a No Action alternative and multiple “action” alternatives were identified and analyzed (three restoration alternatives, six public access alternatives, four bridge alternatives, and five fill disposal alternatives). The selected alternative was deemed to be the “environmentally preferred” course of action.

Copies: Interested parties desiring to review the Record of Decision may obtain a copy by contacting the Superintendent, Golden Gate National Recreation Area, Building 201, Fort Mason, San Francisco, CA 94123 or via telephone request at (415) 561-2841.

Dated: November 25, 2008.
Jonathan B. Jarvis,
Regional Director, Pacific West Region.

[FR Doc. E9-5150 Filed 3-10-09; 8:45 am]

BILLING CODE 4310-70-P